OVERSEAS PRIVATE INVESTMENT CORPORATION

Sunshine Act; Public Hearing, June 5, 2013; Cancellation

OPIC's Sunshine Act notice of its Public Hearing in Conjunction with each Board meeting was published in the Federal Register (Volume 78, Number 95, Pages 28897 and 28898) on May 16, 2013. No requests were received to provide testimony or submit written statements for the record; therefore, OPIC's public hearing scheduled for 2 p.m., June 5, 2013 in conjunction with OPIC's June 13, 2013 Board of Directors meeting has been cancelled.

CONTACT PERSON FOR INFORMATION: Information on the hearing cancellation may be obtained from Connie M. Downs at (202) 336-8438, or via email at Connie.Downs@opic.gov.

Dated: June 1, 2013.
Connie M. Downs,
OPIC Corporate Secretary.

[FR Doc. 2013-13387 Filed 6-3-13; 11:15 am]

BILLING CODE 3210-01-P